DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See SUPPLEMENTARY INFORMATION section for effective date.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On April 22, 2020, OFAC determined that the property and interests in property subject to U.S. jurisdiction of the following persons are unblocked and they have been removed from the SDN List under the relevant sanctions authorities listed below.

Individuals

1. HERRERA GARCIA, Otto Roberto (a.k.a. VILLAGRAN, Francisco), Guatemala; DOB 14 Mar 1965; citizen Guatemala (individual) [SDNTK].

2. NOVA CARVAJAL, Mary Luz, c/o SOCIEDAD SUPERDEPORTES LTDA., Bogota, Colombia; c/o ABS HEALTH CLUB SA, Bogota, Colombia; DOB 19 Dec 1974; nationality Colombia; citizen Colombia; Cedula No. 52253223 (Colombia) (individual) [SDNT].

3. OCHOA MESA, Reinaldo (a.k.a. “NATILLA”); DOB 10 May 1957; POB Envigado, Antioquia, Colombia; Cedula No. 70546722 (Colombia) (individual) [SDNTK] (Linked To: SEMILLANOS S.A.).

4. ROSENTHAL COELLO, Yankel Antonio, Contiguo Rio Santa Ana, Lote Residencial Fina Vieja, San Pedro Sula, Cortes, Honduras; Blvd. Santa Ana, Residencial Fina Vieja No 5, San Pedro Sula, Cortes, Honduras; 1395 Brickell Ave 3404, Miami, FL 33131, United States; DOB 31 Oct 1968; POB Honduras; Passport B139300 (Honduras); National ID No. 0501196808151 (Honduras); RTN 05011968081512 (Honduras) (individual) [SDNTK] (Linked To: SHELIMAR INVESTMENTS, LTD; Linked To: SHELIMAR REAL ESTATE HOLDINGS II, INC; Linked To: SHELIMAR REAL ESTATE HOLDINGS III, INC; Linked To: DESLAND OVERSEAS, LTD; Linked To: PREYDEN INVESTMENTS, LTD).

Entities

1. DESLAND OVERSEAS, LTD, 3rd Floor, Geneva Place, Waterfront Drive, Road Town, Tortola, Virgin Islands, British [SDNTK].

2. PREYDEN INVESTMENTS, LTD, 3rd Floor, Geneva Place, Waterfront Drive, Road Town, Tortola, Virgin Islands, British [SDNTK].

3. SHELIMAR INVESTMENTS, LTD, Vanterpool Plaza 2nd Floor, Wickhams Cay, Road Town, Tortola, Virgin Islands, British [SDNTK].

4. SHELIMAR REAL ESTATE HOLDINGS II, INC, Miami, FL, United States [SDNTK].

5. SHELIMAR REAL ESTATE HOLDINGS III, INC, Golden Beach, FL, United States; Tax ID No. 270800357 (United States) [SDNTK].

6. SEMILLANOS S.A., Carrera 43 A 1 Sur 100 Of 1705, Medellin, Antioquia, Colombia; Hacienda El Cedro, Km 5 Via Rabolargo, Cerete, Cordoba, Colombia; NIT # 811034178-0 (Colombia) [SDNTK].

Dated: April 22, 2020.
Gregory T. Gatjanis,
Associate Director, Office of Global Targeting, Office of Foreign Assets Control.

[FR Doc. 2020-08880 Filed 4-24-20; 8:45 am]

BILLING CODE 4810-AL-P